DEPARTMENT OF COMMERCE

National Oceanic and Atmospheric Administration

50 CFR Part 622

[I.D. 033105A]

RIN 0648-AS69

Fisheries of the Caribbean, Gulf of Mexico, and South Atlantic; Reef Fish Resources of the Gulf of Mexico; Amendment 24

AGENCY: National Marine Fisheries Service (NMFS), National Oceanic and Atmospheric Administration (NOAA), Commerce.

ACTION: Notice of availability; request for comments.

SUMMARY: NMFS announces the availability of Amendment 24 to the Fishery Management Plan (FMP) for the Reef Fish Resources of the Gulf of Mexico (Amendment 24) prepared by the Gulf of Mexico Fishery Management Council (Council). Amendment 24 would establish a limited access system for the Gulf of Mexico commercial reef fish fishery. The intended effect of Amendment 24 is to support the Council's efforts to achieve optimum yield in the fishery, and provide social and economic benefits associated with maintaining stability in the fishery.

DATES: Written comments must be received no later than 5 p.m., eastern time, on June 6, 2005.

ADDRESSES: You may submit comments by any of the following methods:

• E-mail: 0648-AS69.NOA@noaa.gov. Include in the subject line the following document identifier: 0648-AS69-NOA.

• Federal e-Rulemaking Portal: http://www.regulations.gov. Follow the instructions for submitting comments.

• Mail: Peter Hood, Southeast Regional Office, NMFS, 263 13th Avenue South, St. Petersburg, FL 33701.

• Fax: 727-824-5308, Attention: Peter Hood.

Copies of Amendment 24, which includes an Environmental Assessment, a Regulatory Impact Review, and an Initial Regulatory Flexibility Analysis, are available from the Gulf of Mexico Fishery Management Council, 3018 North U.S. Highway 301, Suite 1000, Tampa, FL 33619-2272; email: gulfcouncil@gulfcouncil.org.

FOR FURTHER INFORMATION CONTACT: Peter Hood, 727-824-5305; fax 727-824-5308; e-mail: peter.hood@noaa.gov.

SUPPLEMENTARY INFORMATION: A moratorium on the issuance of new commercial reef fish permits was established in 1992 under Amendment 4 to the Reef Fish Fishery Management Plan (April 8, 1992; 57 FR 11914). The moratorium was designed to provide a stable environment in the fishery for the evaluation and development of a more comprehensive, controlled access system for the entire commercial reef fish fishery. The moratorium was subsequently extended through 1995 (Amendment 9) (August 2, 1994; 59 FR 39301) and to December 31, 2000 (Amendment 11) (December 15, 1995; 60 FR 674350), to provide additional time for consideration of implementing a limited access system in the reef fish fishery. During this period, the Council developed an individual transferable quota (ITQ) system for red snapper (Amendment 8); however, before it could be implemented, Congress prohibited the implementation of ITQ systems until October 1, 2000. Subsequently, the Council developed and NMFS implemented a license limitation system for red snapper (Amendment 15) (62 FR 67714). Amendment 17 was implemented by NMFS on August 10, 2000 (65 FR 41016), and extended the commercial reef fish permit moratorium for another 5 years, from its previous expiration date of December 31, 2000 to December 31, 2005, or until replaced with a license limitation, limited access, and/or individual fishing quota or individual transferable quota system.

Amendment 24, if implemented, would establish a limited access system for the commercial fishery for reef fish. The intended effect would be to prevent increases in effort, to possibly reduce the number of permittees in the reef fish fishery, and to stabilize the economic performance of current participants, while protecting reef fish species from overfishing. The existing restricted number of fishery participants in the Gulf of Mexico has demonstrated the capability of harvesting their total allowable catch well in advance of the end of the various fishing seasons. Allowing the fishery to revert to open access would probably hasten these closures. The proposed limited access system would maintain the existing restricted access to the fishery for an indefinite period, with the intent to provide continued social and economic stability to the reef fish fishery.

A proposed rule that would implement the measure outlined in Amendment 24 has been received from the Council. In accordance with the Magnuson-Stevens Fishery Conservation and Management Act (Magnuson-Stevens Act), NMFS is evaluating the Council's proposed rule to determine whether it is consistent with the FMP, the Magnuson-Stevens Act, and other applicable law. If that determination is affirmative, NMFS will publish the proposed rule in the Federal Register for public review and comment.

Comments received by June 6, 2005, whether specifically directed to the Amendment 24 or the proposed rule, will be considered by NMFS in its decision to approve, disapprove, or partially approve Amendment 24. Comments received after that date will not be considered by NMFS in this decision. All comments received by NMFS on the amendment or the proposed rule during their respective comment periods will be addressed in a final rule.

Authority: 16 U.S.C. 1801 et seq.

Dated: April 1, 2005.
Alan D. Risenhoover,
Acting Director, Office of Sustainable Fisheries, National Marine Fisheries Service.

[FR Doc. 05-6842 Filed 4-5-05; 8:45 am]

BILLING CODE 3510-22-S